DEPARTMENT OF ENERGY

Federal Energy Regulatory Commission

Notice of Intent To File Application for a New License

May 11, 2000.

Take notice that the following notice of intent has been filed with the Commission and is available for public inspection:

a. Type of filing: Notice of Intent to File an Application for New License.

b. Project No.: 178.

c. Date filed: April 14, 2000.

d. Submitted By: Pacific Gas and Electric Company.

e. Name of Project: Kern Canyon.

f. Location: On the Kern River in Kern County, California.

g. Filed Pursuant to: Section 15 of the Federal Power Act, 18 CFR 16.6.

h. Pursuant to Section 16.19 of the Commission's regulations, the licensee is required to make available the information described in Section 16.7 of the regulations. Such information is available from the license at Pacific Gas and Electric Company, 77 Beal Street, San Francisco, California 94105. Interested parties can contact Cheryl Watkins on (415) 973-2189.

i. FERC Contact: Patricia W. Gillis, (202) 208-0735, patricia.gillis@ferc.fed.us.

j. Expiration Date of Current License: April 30, 2005.

k. The project consists of a dam, reservoir, tunnel, penstock, a powerhouse with one generator with a rated capacity of 10,600 kVA and transmission line.

l. The licensee states its unequivocal intent to submit an application for a new license for Project No. 178. Pursuant to 18 CFR 16.9(b)(1) each application for a new license and any competing license applications must be filed with the Commission at least 24 months prior to the expiration of the existing license. All applications for license for this project must be filed by April 30, 2003.

m. A copy of the notice of intent is available for inspection and reproduction at the Commission's Public Reference Room, located at 888 First Street, NE, Room 2A, Washington, D.C. 20426, or by calling (202) 208-1371. The notice may be viewed on http://www.ferc.fed.us/online/rims.htm (call (202) 208-2222 for assistance). A copy is also available for inspection and reproduction at the address in item h above.

David P. Boergers,
Secretary.

[FR Doc. 00-12328 Filed 5-16-00; 8:45 am]

BILLING CODE 6717-01-M